COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add product(s) to the Procurement List that will be furnished by nonprofit agencies employing persons who are blind or have other severe disabilities, and deletes product(s) previously furnished by such agencies.

DATES: Comments must be received on or before: March 06, 2022.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the product(s) listed below from nonprofit agencies employing persons who are blind or have other severe disabilities.

The following product(s) are proposed for addition to the Procurement List for production by the nonprofit agencies listed:

Product(s)

NSN(s)—Product Name(s): 7520-00-NIB-2491—Pen, All-Weather, Cord Loop, Black Ink, 1mm point

Designated Source of Supply: Alphapointe, Kansas City, MO

Contracting Activity: FEDERAL ACQUISITION SERVICE, GSA/FAS ADMIN SVCS ACQUISITION BR(2

Distribution: A-List

Mandatory for: Total Government Requirement

NSN(s)—Product Name(s):

MR 10831—Container, Carrot and Dip To Go, Includes Shipper 20831

MR 10816—Marvel Toys, Includes Shipper 20816

MR 10819—Celery & Dip to Go, Includes Shipper 20819

Designated Source of Supply: Winston-Salem Industries for the Blind, Inc., Winston-Salem, NC

Contracting Activity: Military Resale-Defense Commissary Agency

Distribution: C-List

Mandatory for: The requirements of military commissaries and exchanges in accordance with the 41 CFR 51-6.4

NSN(s)—Product Name(s): 8530-00-NIB-2490—Kit, Personal Sanitizing

Designated Source of Supply: Blind Industries & Services of Maryland, Baltimore, MD

Contracting Activity: FEDERAL ACQUISITION SERVICE, GSA/FSS GREATER SOUTHWEST ACQUISITI

Distribution: A-List

Mandatory for: Total Government Requirement

Deletions

The following product(s) are proposed for deletion from the Procurement List:

Product(s)

NSN(s)—Product Name(s):

7520-00-117-5627—Fingerprint Pad—Size #1, 2¾″ x 4½″, Black

7510-00-526-1740—Foam Stamp Pad, Size #3, 4½″ x 7½″, Uninked

7510-00-231-6531—Felt Stamp Pad, Size #2, 3¼″ x 6¼″, Un-Inked

7510-00-526-1742—Foam Stamp Pad, Size #1, 2¾″ x 4½″, Un-Inked

7510-01-431-6517—Foam Stamp Pad, Size #1, 2¾″ x 4½″, Red

7510-01-431-6523—Felt Stamp Pad, Size #2, 3¼″ x 6¼″, Black

7510-01-431-6524—Foam Stamp Pad, Size #3, 4½″ x 7½″, Black

7510-01-431-6525—Foam Stamp Pad, Size #1, 2¾″ x 4½″, Black

7510-01-431-6526—Foam Stamp Pad, Size #3, 4½″ x 7½″, Red

7510-01-431-8625—Felt Stamp Pad, Size #2 3¼″ x 6¼″, Red

7510-00-224-7676—Felt Stamp Pad, Size #1, 2¾″ x 4¼″, Un-Inked

7510-00-526-1741—Foam Stamp Pad, Size #2, 3¼″ x 6¼″, Un-Inked

7510-01-431-6518—Felt Stamp Pad, Size #1, 2¾″ x 4¼″, Red

7510-01-431-6519—Foam Stamp Pad, Size # 2, 3¼″ x 6¼″, Red

7510-01-431-6521—Felt Stamp Pad, Size #1, 2¾″ x 4¼″, Black

7510-01-431-6522—Foam Stamp Pad, Size # 2, 3¼″ x 6¼″, Black

Designated Source of Supply: NYSARC, Inc., Cattaraugus Niagara Counties Chapter, Olean, NY

Contracting Activity: GSA/FAS ADMIN SVCS ACQUISITION BR(2, NEW YORK, NY

NSN(s)—Product Name(s): 7530-00-142-9037—Roll, Teletype Paper, 8.44″ x 325″, White

Designated Source of Supply: CINCINNATI ASSOCIATION FOR THE BLIND AND VISUALLY IMPAIRED, Cincinnati, OH

Contracting Activity: GSA/FAS ADMIN SVCS ACQUISITION BR(2, NEW YORK, NY

Michael R. Jurkowski,
Acting Director, Business Operations.

[FR Doc. 2022-02365 Filed 2-3-22; 8:45 am]

BILLING CODE 6353-01-P